DEPARTMENT OF TRANSPORTATION

Federal Aviation Administration

14 CFR Part 39

[Docket No. FAA-2006-24036; Directorate Identifier 2006-NE-04-AD]

RIN 2120-AA64

Airworthiness Directives; Sicma Aero Seat, Passenger Seat Assemblies

AGENCY: Federal Aviation Administration (FAA), Department of Transportation (DOT).

ACTION: Notice of proposed rulemaking (NPRM).

SUMMARY: The FAA proposes to adopt a new airworthiness directive (AD) for certain Sicma Aero Seat, passenger seat assemblies. This proposed AD would require modifying the aft track fittings on these passenger seat assemblies by installing new tab locks, and then torquing the aft track fitting locking bolts. This proposed AD results from reports of loose and unlocked aft track fittings on Sicma Aero Seat, passenger seat assemblies. We are proposing this AD to prevent detachment of passenger seat assemblies, especially during emergency conditions, leading to occupant injury.

DATES: We must receive any comments on this proposed AD by May 16, 2006.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: (202) 493-2251.

• Hand Delivery: Room PL-401 on the plaza level of the Nassif Building, 400 Seventh Street, SW., Washington, DC, between 9 a.m. and 5 p.m., Monday through Friday, except Federal holidays.

Contact Sicma Aero Seat, 7 Rue Lucien Coupet, 36100 Issoudun, France, telephone: (33) 54 03 39 39; fax: (33) 54 03 15 16, for the service information identified in this proposed AD.

FOR FURTHER INFORMATION CONTACT: Jeffrey Lee, Aerospace Engineer, Boston Aircraft Certification Office, FAA, Engine and Propeller Directorate, FAA, 12 New England Executive Park, Burlington, MA 01803-5213; telephone (781) 238-7161; fax (781) 238-7170.

SUPPLEMENTARY INFORMATION:

Comments Invited

We invite you to send us any written relevant data, views, or arguments regarding this proposal. Send your comments to an address listed under ADDRESSES. Include “Docket No. FAA-2006-24036; Directorate Identifier 2006-NE-04-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received, and any final disposition in person at the DMS Docket Office between 9 a.m. and 5 p.m., Monday through Friday, except Federal holidays. The Docket Office (telephone (800) 647-5227) is on the plaza level of the Department of Transportation Nassif Building at the street address stated in ADDRESSES. Comments will be available in the AD docket shortly after the DMS receives them.

Discussion

The Direction Generale de L'Aviation Civile (DGAC), which is the airworthiness authority for France, notified us that an unsafe condition might exist on Sicma Aero Seat, passenger seat assemblies, part numbers (P/Ns) 42XX series, 50XX series, 63XX series, 65XX series, 71XX series, 78XX series, 83XX series, 85XX series, 90XX series, 91XX series, and 92XX series, with aft track fittings, P/N 90-000120-790-0, installed. The DGAC advises that reports have been received of aft track fittings, P/N 90-000120-790-0, becoming loose in service. Loose aft track fittings can lead to detachment of passenger seat assemblies, especially during emergency conditions, leading to occupant injury.

Relevant Service Information

We have reviewed and approved the technical contents of Sicma Aero Seat Service Bulletin (SB) No. 90-25-005, Issue 2, dated March 31, 1999, that describes procedures for modifying the aft track fittings, P/N 90-000120-790-0, by installing new tab locks, P/N 00-4399, and torquing the aft track locking bolts. The tab lock prevents the locking bolt from loosening. The DGAC classified this SB as mandatory and issued airworthiness directive 1994-085(AB) R2, dated July 13, 1999, in order to ensure the airworthiness of these passenger seat assemblies in France.

Differences Between the Proposed AD and the Manufacturer's Service Information

Although the SB allows repetitive checking for proper engagement and proper locking bolt torque of aft track fittings as an alternative method to installing the new tab locks, this proposed AD would not allow that alternative method.

FAA's Determination and Requirements of the Proposed AD

These Sicma Aero Seat, passenger seat assemblies, manufactured in France, are installed in airplanes type-certificated for operation in the United States under the provisions of section 21.29 of the Federal Aviation Regulations (14 CFR 21.29) and the applicable bilateral airworthiness agreement. In keeping with this bilateral airworthiness agreement, the DGAC kept us informed of the situation described above. We have examined the DGAC's findings, reviewed all available information, and determined that AD action is necessary for passenger seat assemblies of this type design that are installed in airplanes certificated for operation in the United States. For this reason, we are proposing this AD, which would require modifying the aft track fittings, P/N 90-000120-790-0, by installing new tab locks, P/N 00-4399, and torquing the aft track fitting locking bolts. The proposed AD would require you to use the service information described previously to perform these actions.

Costs of Compliance

We estimate that this proposed AD would affect 239,209 Sicma Aero Seat, passenger seat assemblies, installed on 1,016 airplanes of U.S. registry. We also estimate that it would take about 4 work hours per airplane to perform the proposed actions, and that the average labor rate is $80 per work hour. Required parts would cost about $235 per airplane. Based on these figures, we estimate the total cost of the proposed AD to U.S. operators to be $563,880. The manufacturer has indicated they might provide the parts at no cost to the operators.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Sicma Aero Seat: Docket No. FAA-2006-24036; Directorate Identifier 2006-NE-04-AD.

Comments Due Date

(a) The Federal Aviation Administration (FAA) must receive comments on this airworthiness directive (AD) action by May 16, 2006.

Affected ADs

(b) None.

Applicability

(c) This AD applies to Sicma Aero Seat, passenger seat assemblies, part numbers (P/Ns) 42XX series, 50XX series, 63XX series, 65XX series, 71XX series, 78XX series, 83XX series, 85XX series, 90XX series, 91XX series, and 92XX series, with aft track fittings, P/N 90-000120-790-0, installed. Refer to Annex 1 of Sicma Aero Seat Service Bulletin No. 90-25-005, Issue 2, dated March 31, 1999, for the full part numbers. These seat assemblies are installed on, but not limited to, Airbus A300, A310, A318, A319, A320, A321, and A330 series airplanes.

Unsafe Condition

(d) This AD results from reports of loose and unlocked aft track fittings on Sicma Aero Seat, passenger seat assemblies. We are issuing this AD to prevent detachment of passenger seat assemblies, especially during emergency conditions, leading to occupant injury.

Compliance

(e) You are responsible for having the actions required by this AD performed within 600 flight hours after the effective date of this AD, unless the actions have already been done.

Aft Track Fitting Modification

(f) Modify aft track fittings, P/N 90-000120-790-0, by installing new tab locks, P/N 00-4399, under the locking bolts.

(g) Torque locking bolts to 17.4-to-34.7 inch pounds.

(h) Stamp amendment “Z” on the seat assembly identification plate.

(i) Use the Accomplishment Instructions of Sicma Aero Seat Service Bulletin No. 90-25-005, Issue 2, dated March 31, 1999, to do these actions.

Alternative Methods of Compliance

(j) The Manager, Boston Aircraft Certification Office, has the authority to approve alternative methods of compliance for this AD if requested using the procedures found in 14 CFR 39.19.

Related Information

(k) Direction Generale de L'Aviation Civile, AD 1994-085(AB) R2, dated July 13, 1999, also addresses the subject of this AD.

Issued in Burlington, Massachusetts, on March 13, 2006.
Peter A. White,
Acting Manager, Engine and Propeller Directorate, Aircraft Certification Service.

[FR Doc. E6-3908 Filed 3-16-06; 8:45 am]

BILLING CODE 4910-13-P